DEPARTMENT OF AGRICULTURE

Foreign Agricultural Service

Notice of Request for a Revision of a Currently Approved Information Collection

AGENCY: Foreign Agricultural Service, USDA.

ACTION: Notice and request for comments.

SUMMARY: In accordance with the Paperwork Reduction Act of 1995, this notice announces that the Foreign Agricultural Service (FAS) intends to request a revision of a currently approved information collection for the Refined Sugar Re-Export Program, the Sugar-Containing Products Re-Export Program, and the Polyhydric Alcohol Program.

DATES: Comments should be received on or before December 27, 2022 to be assured of consideration.

ADDRESSES: FAS invites interested persons to submit comments on this notice by any of the following methods:

□ Federal eRulemaking Portal: This website provides the ability to type short comments directly into the comment field or attach a file for lengthier comments. Go to https://www.regulations.gov. Follow the on-line instructions at the site for submitting comments.

□ Email: William.Janis@usda.gov. Include OMB Number 0551-0015 in the subject line of the message.

□ Mail, Hand Delivery, or Courier: William Janis, International Economist, Multilateral Affairs Division, Trade Policy and Geographic Affairs, Foreign Agricultural Service, U.S. Department of Agriculture, Room 5550, Stop 1070, 1400 Independence Ave. SW, Washington, DC 20250-1070.

Instructions: All submissions received must include the agency names and OMB Control Number for this notice. All comments received will be posted without change to http://www.regulations.gov, including any personal information provided.

FOR FURTHER INFORMATION CONTACT: William Janis at the address stated above, by telephone at (202) 720-2194 or by email at: FAS.Sugars@usda.gov.

SUPPLEMENTARY INFORMATION: Title: Sugar Imported for Export as Refined Sugar or as Sugar-Containing Products or used in the Production of Certain Polyhydric Alcohols.

OMB Number: 0551-0015.

Expiration Date of Approval: September 30, 2025.

Type of Request: Revision of a currently approved information collection.

Abstract: As provided in 7 CFR part 1530, the Refined Sugar Re-Export Program, the Sugar-Containing Products Re-Export Program, and the Polyhydric Alcohol Program Sugar Re-Export Program, collectively referred to as the “Sugar Re-Export Program,” permit entry of raw cane sugar, unrestricted by the quantitative limit established by the sugar tariff-rate quota, for re-export in refined form or in sugar containing products or for production of certain polyhydric alcohols. As many as 200 licensees are currently eligible to participate in these programs. In early 2023, the Foreign Agricultural Service (FAS) intends to launch a new data reporting system called Sugar Unified Certification Review, Oversight, Statistics, and Evaluation (SUCROSE) for the Sugar Re-Export Program, which will lead to a slight increase in reporting burden for licensees compared to the current Sugars Users Group Accounting and Reporting System (SUGARS).

Estimate of Burden: The public reporting burden for each respondent resulting from information collection under the Sugar Re-Export Program varies in direct relation to the number and type of agreements entered into by such respondent. The estimated average reporting burden for the Sugar Re-Export Program is 0.50 hours per response. Under 7 CFR part 1530, the information collected is used by the licensing authority to manage, plan, evaluate, and account for program activities. The reports and records are required to ensure the proper operations of these programs.

Respondents: Sugar refiners, manufacturers of sugar containing products, and producers of polyhydric alcohol.

Estimated Number of Respondents: 325.

Estimated Number of Responses per Respondent: 8.

Estimated Total Annual Burden on Respondents: 720 hours.

Copies of this information collection can be obtained from Dacia Rogers, the Agency Information Collection Coordinator, at Dacia.Rogers@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for Office of Management and Budget approval.

Persons with disabilities who require an alternative means for communication of information (Braille, large print, audiotape, etc.) should contact FAS-ReasonableAccommodation@usda.gov or Felice Robinson (Senior Reasonable Accommodations Specialist), Felice.Robinson@usda.gov.

Brooke Jamison,
Acting Administrator, Foreign Agricultural Service.

[FR Doc. 2022-23470 Filed 10-27-22; 8:45 am]

BILLING CODE 3410-10-P